DEPARTMENT OF HEALTH AND HUMAN SERVICES

National Institutes of Health

Submission for OMB Review; 30-Day Comment Request: Outcome Evaluation of the Broadening Experiences in Scientific Training (BEST) Program (OD)

SUMMARY: Under the provisions of section 3507(a)(1)(D) of the Paperwork Reduction Act of 1995, the Office of Strategic Coordination, an office of the Division of Program Coordination, Planning, and Strategic Initiatives, within the Office of the Director at the National Institutes of Health (NIH) has submitted to the Office of Management and Budget (OMB) a request for review and approval of the information collection listed below. This proposed information collection was previously published in the Federal Register on August 26, 2014, (79 FR 50921) and allowed 60-days for public comment. During the 60-day comment period, two requests for information were received. Both individuals requested the data collection plans and the data collection instruments and one also asked for background information. In response to these two requests, electronic copies of the following surveys were emailed: Entrance, Interim, Exit, and Post-Exit. Additionally, both individuals were provided with a brief overview of the program and a link to the NIH Web site that contains detailed information about the BEST program and the awardees. No additional comments were received from the two individuals who requested this information. The purpose of this notice is to allow an additional 30 days for public comment. The Office of Strategic Coordination (OSC), an office of the Division of Program Coordination, Planning, and Strategic Initiatives (DPCPSI), within the Office of the Director (OD) at the National Institutes of Health (NIH) may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment due date: Comments regarding this information collection are best assured of having their full effect if received within 30-days of the date of this publication.

FOR FURTHER INFORMATION CONTACT: To request more information on the proposed project or to obtain a copy of the data collection plans and instruments, contact Dr. Patricia Labosky, Office of Strategic Coordination, Division of Program Coordination, Planning, and Strategic Initiatives, Office of the Director, NIH, 1 Center Drive, MSC 0189, Building 1, Room 214A, Bethesda, MD 20892-0189. Telephone: 301-594-4863. Fax: 301-435-7268. or email your request, including your address to: Workforce_Award@mail.nih.gov. Formal requests for additional plans and instruments must be requested in writing.

Proposed Collection: Outcome Evaluation of the Broadening Experiences in Scientific Training (BEST) Program (OD), 0925-NEW, the Office of Strategic Coordination (OSC), an office of the Division of Program Coordination, Planning, and Strategic Initiatives (DPCPSI), within the Office of the Director (OD) at the National Institutes of Health (NIH).

Need and Use of Information Collection: This cross-site evaluation study will assess three desired outcomes: (1) Changes in understanding of career opportunities, confidence to make career decisions, and attitudes towards career opportunities; (2) reduced time to desired, non-training, non-terminal career opportunities, and reduced time in postdoctoral positions; and (3) creation/further development of institutional infrastructure to continue BEST-like activities. The first two desired outcomes are for graduate students and postdoctoral scientists from the awardee institutions, the third desired outcome is for the awardee institutions. The findings will be used to: (1) Identify and document best practices in the field of biomedical research training, (2) inform the NIH Director, DPCPSI Director, and OSC Director on the outcomes of the BEST program, and (3) disseminate best practices and outcomes of the BEST program to biomedical training programs and the research community.

OMB approval is requested for 3 years. There are no costs to respondents other than their time. The total estimated annualized burden hours are 8,106.

Estimated Annualized Burden Hours
Type of respondents | Number of respondents | Frequency of response | Average time per response (in hours) | Total annual hour burden
Graduate Student—Entrance Survey (online survey) | 4,519 | 1 | 20/60 | 1,506
Graduate Student—Interim Survey (online survey) | 11,296 | 1 | 15/60 | 2,824
Graduate Student—Exit Survey (online survey) | 3,012 | 1 | 15/60 | 753
Graduate Student—Post-Exit 2-year Survey (online survey) | 3,012 | 1 | 15/60 | 753
Postdoctoral Scientist—Entrance Survey (online survey) | 3,137 | 1 | 20/60 | 1,046
Postdoctoral Scientist—Exit Survey (online survey) | 2,091 | 1 | 15/60 | 523
Postdoctoral Scientist—Post-Exit 2-year Survey (online survey) | 2,091 | 1 | 15/60 | 523
Program Staff—Annual Phone Interview | 83 | 1 | 1 | 83
PIs—Data Form Section 1 (reported annually) | 17 | 1 | 180/60 | 51
PIs—Data Form Section 2 (reported annually) | 17 | 1 | 90/60 | 26
PIs—Data Form Section 3 (reported once) | 17 | 1 | 30/60 | 9
PIs—Data Form Section 4 (reported once) | 17 | 1 | 30/60 | 9

Dated: March 10, 2015.
Lawrence A. Tabak,
Deputy Director, National Institutes of Health.

[FR Doc. 2015-05932 Filed 3-13-15; 8:45 am]

BILLING CODE 4140-01-P